NUCLEAR REGULATORY COMMISSION

[Docket: 030-19913]

Notice of Availability of Environmental Assessment and Finding of No Significant Impact for License Amendment for Enviro-Test Laboratories, Casper, WY

AGENCY: Nuclear Regulatory Commission (NRC).

ACTION: Notice of Environmental Assessment and Finding of No Significant Impact.

FOR FURTHER INFORMATION CONTACT: Robert J. Evans, Senior Health Physicist, Fuel Cycle and Decommissioning Branch, Division of Nuclear Materials Safety, Region IV Office, U.S. Nuclear Regulatory Commission, Arlington, Texas 76011. Telephone: (817) 860-8234; fax number: (817) 860-8188; e-mail rje@nrc.gov.

SUPPLEMENTARY INFORMATION:

I. Introduction

The U.S. Nuclear Regulatory Commission (NRC) is considering the approval of Enviro-Test Laboratories' (the licensee's) decommissioning plan for its former laboratory facility located in Casper, Wyoming, and terminating NRC Materials License 49-21194-01. Enviro-Test Laboratories (the licensee) submitted a decommissioning plan (DP) to the U.S. Nuclear Regulatory Commission (NRC) by letter dated October 1, 2002. The licensee subsequently submitted supplemental information by letters dated June 2 and July 18, 2003. The licensee's request for the proposed action was previously noticed in the Federal Register on June 24, 2003 (68 FR 37572), with a notice of an opportunity to request a hearing and an opportunity to provide comments on the action and its environmental impacts. No requests for hearing or comments were received.

The licensee requested that its former laboratory in Casper, Wyoming, be released for unrestricted use. The NRC has prepared an Environmental Assessment (EA) in support of these actions in accordance with the requirements in 10 CFR Part 51. Based on the EA, the NRC has concluded that a Finding of No Significant Impact (FONSI) is appropriate. The amendment will be issued following publication of this notice.

II. Environmental Assessment

A. Proposed Action

The proposed action is to release for unrestricted use the former laboratory located in Casper, Wyoming. This would be accomplished by license amendment to terminate NRC Materials License 49-21194-01 upon NRC approval that the site meets its standards for unrestricted release as specified in 10 CFR part 20.

B. Need for Proposed Action

The licensee needs to have the site removed from its license because it no longer plans to conduct NRC-licensed activities at this location. Further, if the amendment request is approved, the licensee would then be in compliance with the Timeliness Rule requirements of 10 CFR 30.36, “Expiration and Termination of Licenses and Decommissioning of Sites and Separate Buildings or Outdoor Areas.”

C. Facility Description/History

Chemical and Geological Laboratories, the original licensee, received NRC Materials License 49-21194-01 during February 1983. Core Laboratories became the licensee during July 1987 followed by Enviro-Test Laboratories during November 2000. Amendment 6 dated August 26, 2003, authorizes Enviro-Test Laboratories to possess small quantities of tritium, byproduct material, special nuclear material, and uranium mill tailings at its Casper, Wyoming, facility. The authorized uses included environmental and bioassay sampling, possession of laboratory standards and calibration sources, and evaluation of sealed source leak tests.

The licensee also conducted tests of non-radiological samples. According to information provided by the licensee, the laboratory was used for a broad range of analytical tests for metals, inorganic water parameters, organics, and petroleum products. There was also a coal analysis lab in part of the facility for a period of time. The licensee possessed and used a wide range of chemicals and standards to support these analytical tests.

The licensee halted operations in July 2002 and subsequently initiated decommissioning activities, which they completed in October 2002. Enviro-Test Laboratories submitted a DP to the NRC by letter dated October 1, 2002. The licensee submitted supplemental DP information by letters dated June 2 and July 18, 2003. In addition, the licensee submitted an NRC Form 314, “Certificate of Disposition of Materials,” dated January 31, 2003, requesting termination of its radioactive materials license following the NRC's release of the property for unrestricted use.

The laboratory is located at 420 West First Street in Casper, Wyoming. The legal description of the property is: Lots 26-34 inclusive, Block 7, Midwest Addition to the City of Casper.

D. Radiological Status

The licensee possessed small quantities of numerous radionuclides in both sealed and unsealed form. The licensee possessed about 30 alpha-emitting radionuclides and 49 beta-gamma emitting radionuclides at time of closure. The predominant alpha-emitting radionuclide was thorium-230 based on the total radioactivity in the licensee's inventory. The licensee calculated that 49 percent of the total alpha activity was a result of thorium-230. The predominant beta-gamma emitting radionuclide was strontium-90 at 43.4 percent.

As part of the decommissioning process, the licensee disposed or transferred all remaining radioactive material. Some of the radioactive calibration standards and sources were transferred to one of three NRC or state licensed laboratories. The remainder of the radioactive material was drummed for disposal at a commercial low-level waste disposal facility.

The licensee submitted final status survey information to the NRC in its initial DP submittal dated October 1, 2002. The licensee's final status survey consisted of fixed (total surface) contamination surveys, removable contamination surveys, ambient gamma exposure rate measurements, and limited soil and water sampling.

The NRC conducted a confirmatory radiological survey of the laboratory during June 17-18, 2003. The NRC determined that the former soil preparation room required additional remediation. In response to the NRC's findings, the licensee conducted additional decommissioning activities during early July 2003. Additional final status survey information was provided in the licensee's third DP submittal dated July 18, 2003. The NRC conducted a second confirmatory survey on August 5, 2003. The results of the two NRC confirmatory surveys are provided in NRC Inspection Report 030-19913/2003-01. A detailed analysis of the licensee's final status survey report and the NRC's confirmatory survey will be included in the NRC's Safety Evaluation Report that will be used to support the termination of the license.

E. Alternatives

The licensee seeks NRC approval of a license amendment request as submitted. The alternative available to the NRC to the proposed action is to take no action by denying the amendment request. The no-action alternative is not a feasible alternative because it will result in violation of NRC's Timeliness Rule (10 CFR 30.36), which requires licensees to decommission their facilities when licensed activities cease, and to request termination of their radioactive materials license. One potential impact from the no action alternative would be to restrict potential benefits from future uses of the site. Based on the analysis in this EA, which demonstrates that the licensee has met the license termination requirements in 10 CFR 20.1402, and NRC's statutory mission to protect public health and safety, the NRC has determined the no-action alternative is not reasonable. Therefore, the no-action alternative is eliminated from further consideration in this EA.

F. Affected Environment

The laboratory was a 14,000-square foot (1301-square meter) facility comprised of three original buildings that had been connected in various remodeling projects over the past 20 years. The affected environment for the Proposed Action (NRC approval of the license amendment request) would be the interior of the building and the immediate vicinity of the building.

The former laboratory building is located in an industrial/commercial area of Casper with no residences immediately adjacent to the site. There are no streams or ponds on site property, although the North Platte River is located about 200 meters from the site property. Since the site is located within the city limits of Casper, municipal water is supplied to the former laboratory and nearby businesses.

G. Environmental Impacts

1. Occupational and Public Health Impacts

Proposed Action. The radiological criteria for unrestricted use is provided in 10 CFR 20.1402. This regulation states that a site will be considered acceptable for unrestricted use if the residual radioactivity that is distinguishable from background radiation results in a total effective dose equivalent to an average member of the public that does not exceed 25 millirems (0.25 mSv) per year, including that from groundwater sources of drinking water, and that the residual radioactivity has been reduced to levels that are as low as reasonably achievable (ALARA).

Current NRC guidance (Section 2.5 of NUREG-1757, Volume 2, “Consolidated NMSS Decommissioning Guidance”) recommends that licensees demonstrate compliance with the dose criteria by using dose modeling or derived concentration guideline levels (DCGLs) and final status survey results. The licensee's request to release the site for unrestricted use is based, in part, on dose modeling calculations conducted using the NRC-approved DandD and RESRAD computer codes. The licensee used the DandD code (Version 2.1.0) to model the annual dose to members of the public inside of the building. The licensee also used the RESRAD computer code (Version 6.21) to model the annual dose to members of the public outside of the building. The code inputs included information obtained during the licensee's performance of the final radiological status survey, i.e., measured radioactivity at the site. The code outputs were then compared to the 25-millirem dose criteria.

Using the DandD building occupancy scenario, the licensee conducted two analyses, one for all alpha-emitting radionuclides and the second for all beta-emitting radionuclides. The licensee used DandD's default parameters for both analyses. The licensee prorated the radionuclides based on the total activity in inventory at the time of facility closure. The licensee used 29 alpha-emitting radionuclides in the first analysis and 50 beta-gamma emitting radionuclides (including yttrium-90) in the second analysis. The calculated total dose from all pathways was 9.88 millirems for alpha-emitting radionuclides and 12.4 millirems for beta-gamma emitting radionuclides. The combined total of the two analyses was 22.28 millirems per year, a dose that is below the 25-millirem limit.

The licensee also conducted an analysis using RESRAD for radionuclides that may be in the soil in the vicinity of the building. The licensee sampled the soil and determined that the soil contained measurable amounts of uranium, thorium, and radium. The inputs into RESRAD included radium-228 and thorium-232 because the licensee could not determine a background concentration for these radionuclides. The licensee did not include uranium and radium-226 in the RESRAD program because sample analyses indicated that these two radionuclides were at or below background levels. The licensee used the default RESRAD program parameters. The calculated maximum dose was 15.08 millirems per year, a dose rate below the 25-millirem per year limit. [Since DandD and RESRAD have different occupancy factors, it is not appropriate to add the building occupancy results and outdoor exposure results together. The DandD and RESRAD results are individually compared to the 25-millirem limit.]

During a portion of laboratory decommissioning, the licensee monitored worker exposures to radioactive materials. Occupational exposure records were reviewed during the June 2003 inspection (NRC Inspection Report 030-19913/2003-001). As noted in the Inspection Report, records for 2002 (the time frame when decommissioning was conducted) were not always available. The NRC staff believes, based on exposure and environmental records for 1998-2001, that worker exposure to radioactive materials was most likely well below the NRC's annual total effective dose equivalent limit during decommissioning activities.

In summary, the licensee's final status survey results indicate that annual doses to occupants of the building and annual doses to members of the public located outdoors will be less than the NRC's radiological criteria for unrestricted use of the facility. Since the licensee used the default values for both computer codes, then the calculated results are considered conservative. No cumulative impacts or impacts of a non-radiological nature were identified in connection with the proposed action.

2. Environmental Resource Impacts

Proposed Action. The licensee conducted studies to demonstrate that the area around and under the former laboratory had not been contaminated with radioactive material. The licensee collected soil samples from around the building for analysis. The sample results revealed detectable amounts of radioactive lead, radium, thorium, and uranium at or near background levels. These sample results could be representative of naturally occurring radionuclides in the soil. No man-made gamma emitting radionuclides were identified, including cobalt-60 and cesium-137. In summary, the soil sample results suggest that all radionuclides were undetectable or were at naturally occurring background levels.

The licensee conducted a study to determine if there had been any contamination of soil or groundwater as a result of a leaking sump that was repaired during 1996. The study was conducted prior to start of decommissioning but was included in the DP submittal. The sample results identified radioactivity at background levels. The study concluded that the sump had not leaked detectable quantities of licensed radioactive material into the environs of the site.

The property owner (not the same entity as the licensee) conducted sampling of the former sump during September 2001. During drilling operations, groundwater was encountered at approximately 10.5 feet below the surface. The data presented in the owner's TriHydro Corporation report dated November 29, 2001, indicated that soils in the area of the sump did not display elevated concentrations of any constituent, except non-radioactive mercury which is not regulated by the NRC. The report documents that mercury was identified in the 0-4 foot sample at 95.6 mg/kg. The State of Wyoming's residential soil cleanup level is 23 mg/kg for mercury. The NRC does not have the regulatory authority to address the report of mercury contamination. As such, notification to the State of Wyoming was made by letter dated November 4, 2003. If the proposed action is implemented, any existing mercury in site soils would be part of the property that is released from NRC's license conditions.

Current regulations allow licensees to dispose of radioactive material through the sanitary sewer system as long as the concentration limits provided in 10 CFR Part 20, Appendix B, Table 3, “Release to Sewers,” are not exceeded. The NRC conducted routine inspections of the facility, and waste disposal records were reviewed during these inspections. The NRC inspectors did not identify any violations of this regulation, suggesting that the licensee's waste disposal practices were in accordance with license and regulatory requirements.

During the confirmatory survey of the laboratory, the NRC inspector surveyed the exterior of the building for ambient gamma exposure rates and sampled for total (fixed and removable) contamination at selected exterior surfaces. The only area that exhibited an elevated gamma exposure rate was a ventilation duct that exited the building from the former soil preparation room. This room was subsequently remediated a second time by the licensee. No other area, including adjacent land areas, exhibited elevated gamma exposure rates. In addition, no exterior surface contamination sample exhibited an elevated level of radioactivity. The NRC's confirmatory survey confirmed that the building exterior and the grounds around the building were not contaminated with radioactive material.

Other than the presence of mercury in the former sump area in the rear of the building as discussed previously, no impacts of a non-radiological nature were identified in connection with the proposed action. No cumulative impacts were identified.

H. Agencies and Persons Consulted and Sources Used

The NRC staff have determined that the proposed action will not affect listed species or critical habitat. Therefore, no further consultation is required under Section 7 of the Endangered Species Act. Likewise, NRC staff have determined that the proposed action is not the type of activity that has the potential to cause effects on historic properties. Therefore, no further consultation is required under Section 106 of the National Historic Preservation Act.

The NRC consulted with the State of Wyoming on this EA. The State provided one comment regarding verification of waste disposal. The licensee subsequently provided documentation from the waste broker dated January 3, 2003, confirming that the radioactive wastes had been disposed in a state-licensed commercial waste facility in Richland, Washington.

I. Conclusion

Based on its review, the NRC staff has concluded that the environmental impacts associated with the proposed action do not warrant denial of the license amendment request. The NRC staff believes that the proposed action will result in minimal environmental impacts. The staff has determined that the proposed action, approval of the license amendment request to release the facility for unrestricted use, is the appropriate alternative for selection.

J. List of Preparers

This Environmental Assessment was prepared by Robert Evans, Senior Health Physicist, Fuel Cycle & Decommissioning Branch, Division of Nuclear Materials Safety, Region IV, and reviewed by Dr. D. Blair Spitzberg, Chief, Fuel Cycle & Decommissioning Branch.

K. References

1. Enviro-Test Laboratories' Decommissioning Plan submittal dated October 1, 2002 (ML023190414, ML023190459, ML023190486, ML023190490, ML023190561, ML023220067, ML023220319, and ML023220321; restricted access due to personal privacy information being included).

2. NRC letter to Enviro-Test Laboratories dated January 28, 2003, Completeness Review of Decommissioning Plan (ML030280684).

3. Enviro-Test Laboratories' Certificate of Disposition of Materials dated January 31, 2003 (ML031750843).

4. Enviro-Test Laboratories' second Decommissioning Plan submittal dated June 2, 2003, Additional Information for Decommissioning Activities (ML031550560, ML031550604, ML031550624, and ML031550645).

5. NRC letter to Enviro-Test Laboratories dated June 11, 2003, Acknowledgment of Receipt of Decommissioning Plan (ML031621024).

6. NRC Notice of Consideration of Amendment Request for Enviro-Test Laboratories dated June 16, 2003 (ML031671353).

7. Enviro-Test Laboratories' third Decommissioning Plan submittal dated July 18, 2003, Site Closure Plan (ML032030605, ML032030619, ML032030621, ML032030623, ML032050081, and ML032050108).

8. Oak Ridge Institute for Science and Education letter to NRC dated August 6, 2003, Revision to Analytical Results for Smear Results (ML032650667).

9. NRC Inspection Report 030-19913/2003-01 dated September 24, 2003 (ML032671377).

10. TriHydro Corporation Report to Gene George dated November 29, 2001 (ML033070386).

11. State of Wyoming, Office of Homeland Security, letter to NRC dated November 17, 2003, RE: Request for Comments Regarding the Environmental Assessment for Decommissioning of the Enviro-Test Laboratories Facility dated November 4, 2003 (ML033280170).

12. Environmental Management and Controls, Inc. letter to Enviro-Test Laboratories dated January 3, 2003, regarding disposal of radioactive wastes (ML033420169).

III. Finding of No Significant Impact

Based on the environmental assessment, the staff concludes that the proposed action will not have a significant effect on the quality of the human environment. Accordingly, the staff has determined that preparation of an environmental impact statement is not warranted.

IV. Further Information

The documents related to this proposed action, including the application for the license amendment and supporting documentation, are available for inspection at NRC's Public Electronic Reading Room at http://www.nrc.gov/reading-rm/adams.html, at the ADAMS Accession Nos. listed with the documents. These documents may also be viewed electronically on the public computers located at the NRC's Public Document Room (PDR), O 1 F21, One White Flint North, 11555 Rockville Pike, Rockville, MD 20852. The PDR reproduction contractor will copy documents for a fee.

Dated at Arlington, Texas, this 15th day of December, 2003.
For the Nuclear Regulatory Commission.
D. Blair Spitzberg,
Chief, Fuel Cycle Decommissioning Branch, Division of Nuclear Materials Safety Region IV.

[FR Doc. 03-32146 Filed 12-30-03; 8:45 am]

BILLING CODE 7590-01-P